DEPARTMENT OF THE INTERIOR

National Park Service

Notice of Intent to Repatriate a Cultural Item in the Possession of the Peabody Museum of Archaeology and Ethnology, Harvard University, Cambridge, MA

AGENCY: National Park Service, Interior.

ACTION: Notice.

Notice is hereby given under the Native American Graves Protection and Repatriation Act, 43 CFR 10.10 (a)(3), of the intent to repatriate a cultural item in the possession of the Peabody Museum of Archaeology and Ethnology, Harvard University, Cambridge, MA, that meets the definition of “unassociated funerary object” under Section 2 of the Act.

This notice is published as part of the National Park Service's administrative responsibilities under NAGPRA, 43 CFR 10.2 (c). The determinations within this notice are the sole responsibility of the museum, institution, or Federal agency that has control of this cultural item. The National Park Service is not responsible for the determinations within this notice.

The one cultural item is a string of stone beads.

In 1900, this cultural item was collected by Alfred M. Tozzer from a grave at an unknown location in northern California. The cultural item was donated to the Peabody Museum of Archaeology and Ethnology by Professor Tozzer in 1941. Museum records indicate that the grave was “Maidu.” The specific cultural attribution indicates that the collector was aware of the cultural affiliation of the burial, and suggests that it dates to historic times.

Based on the specific cultural attribution in museum records, the probable historic date of the burial, and the geographical location of origin within a region historically associated with the Maidu, the cultural item is considered to be culturally affiliated with the Maidu Tribe. The Maidu Tribe is represented by the present-day Berry Creek Rancheria of Maidu Indians of California; the Greenville Rancheria of Maidu Indians of California; the Enterprise Rancheria of Maidu Indians of California; the Mechoopda Indian Tribe of Chico Rancheria, California; Mooretown Rancheria of Maidu Indians of California; and the Susanville Indian Rancheria of California.

Based on the above-mentioned information, officials of the Peabody Museum of Archaeology and Ethnology have determined that, pursuant to 43 CFR 10.2 (d)(2)(ii), this cultural item is reasonably believed to have been placed with or near individual human remains at the time of death or later as part of the death rite or ceremony and is believed, by a preponderance of the evidence, to have been removed from a specific burial site of an Native American individual. Officials of the Peabody Museum of Archaeology and Ethnology also have determined that, pursuant to 43 CFR 10.2 (e), there is a relationship of shared group identity that can be reasonably traced between this unassociated funerary object and the Berry Creek Rancheria of Maidu Indians of California; the Greenville Rancheria of Maidu Indians of California; the Enterprise Rancheria of Maidu Indians of California; the Mechoopda Indian Tribe of Chico Rancheria, California; Mooretown Rancheria of Maidu Indians of California; and the Susanville Indian Rancheria of California.

This notice has been sent to officials of the Berry Creek Rancheria of Maidu Indians of California; the Greenville Rancheria of Maidu Indians of California; the Enterprise Rancheria of Maidu Indians of California; the Mechoopda Indian Tribe of Chico Rancheria, California; Mooretown Rancheria of Maidu Indians of California; and the Susanville Indian Rancheria of California. Representatives of any other Indian tribe that believes itself to be culturally affiliated with this unassociated funerary object should contact Barbara Isaac, Repatriation Coordinator, Peabody Museum of Archaeology and Ethnology, 11 Divinity Avenue, Cambridge, MA 02138, telephone (617) 495-2254, before May 9, 2001. Repatriation of this unassociated funerary object to the Berry Creek Rancheria of Maidu Indians of California; the Greenville Rancheria of Maidu Indians of California; the Enterprise Rancheria of Maidu Indians of California; the Mechoopda Indian Tribe of Chico Rancheria, California; Mooretown Rancheria of Maidu Indians of California; and the Susanville Indian Rancheria of California may begin after that date if no additional claimants come forward.

Dated: March 21, 2001.
John Robbins,
Assistant Director, Cultural Resources Stewardship and Partnerships.

[FR Doc. 01-8681 Filed 4-6-01; 8:45 am]

BILLING CODE 4310-70-F